DEPARTMENT OF ENERGY

Public Availability of the Department of Energy's FY 2021 Service Contract Inventory

AGENCY: Office of Acquisition Management, Department of Energy.

ACTION: Notice of public availability of FY 2021 service contract inventory.

SUMMARY: In accordance with Division C of the Consolidated Appropriations Act of 2010 and Office of Management and Budget (OMB) guidance, the Department of Energy (DOE) is publishing this notice to advise the public on the availability of the FY 2021 Government-Wide Service Contract Inventory, FY2021 DOE Service Contract Inventory Analysis Plan and FY 2020 DOE Service Contract Inventory Analysis. This inventory provides information on service contract actions over $150,000 that DOE completed in FY 2021. The inventory has been developed in accordance with guidance issued by the Office of Management and Budget's Office of Federal Procurement Policy (OFPP). The FY 2021 government-wide service contract inventory can be found at www.acquisition.gov/service-contract-inventory. The Department of Energy's service contract inventory data is included in the government-wide inventory posted on the above link and the government-wide inventory can be filtered to display the inventory data for the Department. DOE has posted its FY 2020 Service Contract Inventory Analysis and FY 2021 Service Contract Inventory Analysis Plan at: https://energy.gov/management/downloads/service-contract-inventory.

FOR FURTHER INFORMATION CONTACT: Questions regarding the service contract inventory should be directed to Lance Nyman in the Strategic Programs Division at (240) 474-7960 or Lance.Nyman@hq.doe.gov.

Signing Authority

This document of the Department of Energy was signed on October 10, 2023, by Berta Schreiber, Director, Office of Acquisition Management, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on October 12, 2023.
Treena V. Garrett,
Federal Register Liaison Officer, U.S. Department of Energy.

[FR Doc. 2023-22863 Filed 10-16-23; 8:45 am]

BILLING CODE 6450-01-P